DEPARTMENT OF COMMERCE

National Institute of Standards and Technology

National Fire Protection Association (NFPA): Request for Comments on NFPA's Codes and Standards

AGENCY: National Institute of Standards and Technology, Commerce.

ACTION: Notice.

SUMMARY: The National Institute of Standards and Technology (NIST) is publishing this notice on behalf of the National Fire Protection Association (NFPA) to announce the availability of and request comments on the technical reports that will be presented at NFPA's 2012 Fall Revision Cycle.

DATES: Forty-eight reports are published in the 2012 Fall Revision Cycle Report on Proposals and will be available on December 23, 2011. Comments received by 5 p.m. EST/EDST on March 2, 2012 will be considered by the respective NFPA Committees before final action is taken on the proposals.

ADDRESSES: The 2012 Fall Revision Cycle Report on Proposals will be available and downloadable from NFPA's Web site on December 23, 2011 at http://www.nfpa.org, or by requesting a copy from the NFPA, Fulfillment Center, 11 Tracy Drive, Avon, Massachusetts 02322. Comments on the report should be submitted to Amy Beasley Cronin, Secretary, Standards Council, NFPA, 1 Batterymarch Park, Quincy, Massachusetts 02169-7471.

FOR FURTHER INFORMATION CONTACT: Amy Beasley Cronin, Secretary, Standards Council, NFPA, 1 Batterymarch Park, Quincy, Massachusetts 02169-7471, (617) 770-3000. David F. Alderman, NIST, (301) 975-4019.

SUPPLEMENTARY INFORMATION: Since 1896, the National Fire Protection Association (NFPA) has accomplished its mission by advocating scientifically based consensus codes and standards, research, and education for safety related issues. NFPA's National Fire Codes®, which holds over 295 documents, are administered by more than 240 Technical Committees comprised of approximately 7,600 volunteers and are adopted and used throughout the world. NFPA is a nonprofit membership organization with approximately 70,000 members from over 100 nations, all working together to fulfill the Association's mission.

The NFPA process provides ample opportunity for public participation in the development of its codes and standards. All NFPA codes and standards are revised and updated every three to five years in Revision Cycles that begin twice each year and take approximately two years to complete. Each Revision Cycle proceeds according to a published schedule that includes final dates for all major events in the process. The process contains five basic steps that are followed both for developing new documents as well as revising existing documents. These steps are: Calling for Proposals; Publishing the Proposals in the Report on Proposals; Calling for Comments on the Committee's disposition of the Proposals and these Comments are published in the Report on Comments; having a Technical Report Session at the NFPA Conference and Expo; and finally, the Standards Council Consideration and Issuance of documents.

Note: Anyone wishing to make Amending Motions on the Technical Committee Reports (ROP and ROC) must signal his or her intention by submitting a Notice of Intent to Make a Motion by the Deadline of 5 p.m. EST/EDST on or before October 5, 2012. Certified motions will be posted by November 2, 2012. Documents that receive notice of proper Amending Motions (Certified Amending Motions) will be presented for action at the annual June 2013 Association Technical Meeting. Documents that receive no motions will be forwarded directly to the Standards Council for action on issuance.

For more information on these new rules and for up-to-date information on schedules and deadlines for processing NFPA Documents, check the NFPA Web site at http://www.nfpa.org, or contact NFPA Codes and Standards Administration.

The purpose of this notice is to request comments on the technical reports that will be published in the NFPA's 2012 Fall Revision Cycle. The publication of this notice by the National Institute of Standards and Technology (NIST) on behalf of NFPA is being undertaken as a public service; NIST does not necessarily endorse, approve, or recommend any of the standards referenced in the notice.

Background

The National Fire Protection Association (NFPA) develops building, fire, and electrical safety codes and standards. Federal agencies frequently use these codes and standards as the basis for developing Federal regulations concerning safety. Often, the Office of the Federal Register approves the incorporation by reference of these standards under 5 U.S.C. 552(a) and 1 CFR part 51.

Request for Comments

Interested persons may participate in these revisions by submitting written data, views, or arguments to Amy Beasley Cronin, Secretary, Standards Council, NFPA, 1 Batterymarch Park, Quincy, Massachusetts 02169-7471. Commenters may use the forms provided for comments in the Report on Proposals. Each person submitting a comment should include his or her name and address, identify the notice and give reasons for any recommendations. Comments received by 5 p.m. EST/EDST on March 2, 2012 for the 2012 Fall Revision Cycle Report on Proposals will be considered by the NFPA before final action is taken on the proposals.

Copies of all written comments received and the disposition of those comments by the NFPA committees will be published as the 2012 Fall Revision Cycle Report on Comments by August 24, 2012. A copy of the Report on Comments will be sent automatically to each commenter.

2012 Fall Revision Cycle—Report on Proposals
[P = Partial revision; W = Withdrawal; R = Reconfirmation; N = New; C = Complete revision]
NFPA 10 | Standard for Portable Fire Extinguishers | P
NFPA 14 | Standard for the Installation of Standpipe and Hose Systems | P
NFPA 17 | Standard for Dry Chemical Extinguishing Systems | P
NFPA 17A | Standard for Wet Chemical Extinguishing Systems | P
NFPA 22 | Standard for Water Tanks for Private Fire Protection | P
NFPA 36 | Standard for Solvent Extraction Plants | P
NFPA 52 | Vehicular Gaseous Fuel Systems Code | P
NFPA 67 | Guideline on Explosion Protection for Gaseous Mixtures in Pipe Systems | N
NFPA 68 | Standard on Explosion Protection by Deflagration Venting | P
NFPA 70B | Recommended Practice for Electrical Equipment Maintenance | P
NFPA 140 | Standard on Motion Picture and Television Production Studio Soundstages, Approved Production Facilities, and Production Locations | P
NFPA 211 | Standard for Chimneys, Fireplaces, Vents, and Solid Fuel-Burning Appliances | P
NFPA 225 | Model Manufactured Home Installation Standard | P
NFPA 241 | Standard for Safeguarding Construction, Alteration, and Demolition Operations | P
NFPA 259 | Standard Test Method for Potential Heat of Building Materials | P
NFPA 260 | Standard Methods of Tests and Classification System for Cigarette Ignition Resistance of Components of Upholstered Furniture | P
NFPA 261 | Standard Method of Test for Determining Resistance of Mock-Up Upholstered Furniture Material Assemblies to Ignition by Smoldering Cigarettes | P
NFPA 270 | Standard Test Method for Measurement of Smoke Obscuration Using a Conical Radiant Source in a Single Closed Chamber | P
NFPA 274 | Standard Test Method To Evaluate Fire Performance Characteristics of Pipe Insulation | P
NFPA 289 | Standard Method of Fire Test for Individual Fuel Packages | P
NFPA 290 | Standard for Fire Testing of Passive Protection Materials for Use on LP-Gas Containers | P
NFPA 495 | Explosive Materials Code | P
NFPA 496 | Standard for Purged and Pressurized Enclosures for Electrical Equipment | P
NFPA 498 | Standard for Safe Havens and Interchange Lots for Vehicles Transporting Explosives | P
NFPA 501A | Standard for Fire Safety Criteria for Manufactured Home Installations, Sites, and Communities | P
NFPA 501 | Standard on Manufactured Housing | P
NFPA 505 | Fire Safety Standard for Powered Industrial Trucks Including Type Designations, Areas of Use, Conversions, Maintenance, and Operations | P
NFPA 551 | Guide for the Evaluation of Fire Risk Assessments | P
NFPA 705 | Recommended Practice for a Field Flame Test for Textiles and Films | P
NFPA 801 | Standard for Fire Protection for Facilities Handling Radioactive Materials | P
NFPA 900 | Building Energy Code | P
NFPA 909 | Code for the Protection of Cultural Resource Properties—Museums, Libraries, and Places of Worship | P
NFPA 1006 | Standard for Technical Rescuer Professional Qualifications | P
NFPA 1061 | Standard for Professional Qualifications for Public Safety Telecommunicator | P
NFPA 1404 | Standard for Fire Service Respiratory Protection Training | P
NFPA 1451 | Standard for a Fire Service Vehicle Operations Training Program | P
NFPA 1600 | Standard on Disaster/Emergency Management and Business Continuity Programs | P
NFPA 1851 | Standard on Selection, Care, and Maintenance of Protective Ensembles for Structural Fire Fighting and Proximity Fire Fighting | P
NFPA 1852 | Standard on Selection, Care, and Maintenance of Open-Circuit Self-Contained Breathing Apparatus (SCBA) | P
NFPA 1855 | Standard for Selection, Care, and Maintenance of Protective Ensembles for Technical Rescue Incidents | N
NFPA 1925 | Standard on Marine Fire-Fighting Vessels | P
NFPA 1962 | Standard for the Inspection, Care, and Use of Fire Hose, Couplings, and Nozzles and the Service Testing of Fire Hose | P
NFPA 1964 | Standard for Spray Nozzles | P
NFPA 1981 | Standard on Open-Circuit Self-Contained Breathing Apparatus (SCBA) for Emergency Services | P
NFPA 1982 | Standard on Personal Alert Safety Systems (PASS) | P
NFPA 1989 | Standard on Breathing Air Quality for Emergency Services Respiratory Protection | P
NFPA 1999 | Standard on Protective Clothing for Emergency Medical Operations | P

Dated: November 4, 2011.
Willie E. May,
Associate Director for Laboratory Programs.

[FR Doc. 2011-29314 Filed 11-10-11; 8:45 am]

BILLING CODE 3510-13-P